DEPARTMENT OF DEFENSE

Office of the Secretary

[Docket ID: DOD-2016-OS-0062]

Submission for OMB Review; Comment Request

ACTION: Notice.

SUMMARY: The Department of Defense has submitted to OMB for clearance, the following proposal for collection of information under the provisions of the Paperwork Reduction Act.

DATES: Consideration will be given to all comments received by December 9, 2016.

FOR FURTHER INFORMATION CONTACT: Fred Licari, 571-372-0493.

SUPPLEMENTARY INFORMATION: Title, Associated Form and OMB Number: Synchronized Predeployment and Operational Tracker Enterprise Suite (SPOT-ES); OMB Control Number 0704-0460.

Type of Request: Reinstatement.

Number of Respondents: 1,670.

Responses per Respondent: 56.

Annual Responses: 93,520.

Average Burden per Response: 30 minutes.

Annual Burden Hours: 46,760.

Needs and Uses: The information collection requirement is necessary to comply with section 861 of Public Law 110-181 and DoD Instruction 3020.41, “Operational Contract Support” and other appropriate policy, Memoranda of Understanding, and regulations. The Department of Defense, the Department of State (DoS), and the United States Agency for International Development (USAID) require that Government contract companies enter their employee's data into the Synchronized Predeployment and Operational Tracker (SPOT) System before contractors are deployed outside of the United States. SPOT is also used during Homeland Defense and Defense Support of Civil Authority Operations in the United States. Any persons who choose not to have data collected will not be entitled to employment opportunities which require this data to be collected.

Affected Public: Business or other for-profit.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: November 3, 2016.
Aaron Siegel,
Alternate OSD Federal Register Liaison Officer, Department of Defense.

[FR Doc. 2016-27009 Filed 11-8-16; 8:45 am]

BILLING CODE 5001-06-P